GENERAL SERVICES ADMINISTRATION

[Notice-CECANF-2014-07; Docket No. 2014-0005; Sequence No. 7]

Commission To Eliminate Child Abuse and Neglect Fatalities; Announcement of Meeting

AGENCY: Commission To Eliminate Child Abuse and Neglect Fatalities, General Services Administration.

ACTION: Meeting notice.

SUMMARY: The Commission To Eliminate Child Abuse and Neglect Fatalities (CECANF), a Federal Advisory Committee established by the Protect Our Kids Act of 2012, will hold a meeting open to the public on Thursday, December 4, 2014 in Philadelphia, Pennsylvania.

DATES: The meeting will be held on Thursday, December 4, 2014, from 9:00 a.m. to 12:00 p.m. Eastern Standard Time.

ADDRESSES: CECANF will convene its meeting at the Philadelphia Marriott, 1201 Market Street, Philadelphia, PA 19107. This site is accessible to individuals with disabilities. The meeting will also be made available via teleconference and/or Webinar.

Submit comments identified by “Notice-CECANF-2014-07,” by either of the following methods:

• Regulations.gov: http://www.regulations.gov. Submit comments via the Federal eRulemaking portal by searching for “Notice-CECANF-2014-07.” Select the link “Comment Now” that corresponds with “Notice-CECANF-2014-07.” Follow the instructions provided on the screen. Please include your name, organization name (if any), and “Notice-CECANF-2014-07” on your attached document.

• Mail: Commission to Eliminate Child Abuse and Neglect Fatalities, c/o General Services Administration, Agency Liaison Division, 1800 F St. NW., Room 7003D, Washington, DC 20006.

Instructions: Please submit comments only and cite “Notice-CECANF-2014-07” in all correspondence related to this notice. All comments received will be posted without change to http://www.regulations.gov, including any personal and/or business confidential information provided.

FOR FURTHER INFORMATION CONTACT: Visit the CECANF Web site at https://eliminatechildabusefatalities.sites.usa.gov/ or contact Ms. Patricia Brincefield, Communications Director, at 202-818-9596, 1800 F St. NW., Room 7003D, Washington, DC 20006.

SUPPLEMENTARY INFORMATION: Background: CECANF was established to develop a national strategy and recommendations for reducing fatalities resulting from child abuse and neglect.

Agenda: The purpose of the meeting being held on December 4, 2014 is for Commission members to meet with national and international researchers to obtain: (1) A more in-depth understanding of the use of predictive analytics for identifying children at an increased risk for fatalities and near fatalities, (2) a research perspective on how current national data collection systems could be enhanced to better inform practice and policy, and (3) information about additional research that could lead to a better understanding of the issue of child abuse and neglect fatalities. The agenda for the meeting can be found on the CECANF Web site at https://eliminatechildabusefatalities.sites.usa.gov/events/

Attendance at the Meeting: Individuals interested in attending the meeting in person or participating by webinar and teleconference must register in advance. To register to attend in person or by webinar/phone, please go to https://attendee.gotowebinar.com/register/5499503537289586178 and follow the prompts. Once you register, you will receive a confirmation email with the webinar login and teleconference number. The room only has capacity for 115 people, so please register early if you plan to attend in person. Members of the public will not have the opportunity to ask questions or otherwise participate in the meeting.

However, members of the public wishing to comment should follow the steps detailed under the heading Addresses in this publication or contact us via the CECANF Web site at https://eliminatechildabusefatalities.sites.usa.gov/contact-us/.

Detailed meeting minutes will be posted within 90 days of the meeting on the CECANF Web site in the Events section: https://eliminatechildabusefatalities.sites.usa.gov/events/

Dated: November 13, 2014.
Karen White,
Executive Assistant.

[FR Doc. 2014-27437 Filed 11-19-14; 8:45 am]

BILLING CODE 6820-34-P